DEPARTMENT OF COMMERCE

National Oceanic and Atmospheric Administration

50 CFR Part 648

[I.D. 041001A]

New England Fishery Management Council; Public Meeting

AGENCY: National Marine Fisheries Service (NMFS), National Oceanic and Atmospheric Administration (NOAA), Commerce.

ACTION: Public meeting.

SUMMARY: The New England Fishery Management Council (Council) will hold a 2-day Council meeting, on May 2 and May 3, 2001, to consider actions affecting New England fisheries in the exclusive economic zone (EEZ).

DATES: The meeting will be held on Wednesday and Thursday, May 2 and 3, at 9 a.m. and 8:30 a.m., respectively.

ADDRESSES: The meeting will be held at the Holiday Inn, 1 Newbury Street, Route 1 North, Peabody, MA 01960; telephone (978) 535-4600. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Wednesday, May 2, 2001

After introductions, the Council will receive reports on recent activities from the Council Chairman, Executive Director, the NMFS Regional Administrator, Northeast Fisheries Science Center and Mid-Atlantic Fishery Management Council liaisons, NOAA General Counsel and representatives of the U.S. Coast Guard, NMFS Enforcement and the Atlantic States Marine Fisheries Commission. An expanded enforcement briefing will be provided by the U.S. Coast Guard. NMFS also will report to the Council about funds dispersed through the Northeast Marine Fisheries Initiative. These reports will be followed by a NMFS presentation on the status of the North Atlantic right whale. During the afternoon session, the Council staff will present issues and options under consideration by the Herring Committee for a limited entry/controlled access system for Area 1A (inshore Gulf of Maine) as described in the Atlantic Herring Fishery Management Plan (FMP). The Red Crab Committee will request approval of management measures to be analyzed in the Draft Environmental Impact Statement for the Red Crab FMP.

Thursday, May 3, 2001

The Council’s Skate Committee will request approval of goals and objectives for the Northeast Skate Complex FMP. The Council will spend the rest of the day addressing groundfish issues. The Groundfish Committee will ask the Council for approval of draft management measures to be analyzed in the Draft Supplemental Environmental Impact Statement for Amendment 13 to the Northeast Multispecies FMP. Measures under consideration include: (1) habitat-related alternatives (methods to designate Essential Fish Habitat, Habitat Areas of Particular Concern designations, and measures to minimize adverse impacts associated with fishing activities); (2) refinement of status quo measures using existing management tools; (3) an area-based regime using area specific measures that may include measures to address unused days-at-sea; and (4) the allocation of resources to different industry sectors that may include measures to address unused days-at-sea. The Council meeting will adjourn after addressing any other outstanding business.

Although other non-emergency issues not contained in this agenda may come before this Council for discussion, those issues may not be the subjects of formal action during this meeting. Council action will be restricted to those issues specifically listed in this notice and any issues arising after publication of this notification that require emergency action under section 305(c) of the Magnuson-Stevens Act, provided that the public has been notified of the Council's intent to take final action to address the emergency.

The Council will consider public comments at a minimum of two Council meetings before making recommendations to the NMFS Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: April 12, 2001.
Bruce C. Morehead,
Acting Director, Office of Sustainable Fisheries, National Marine Fisheries Service.

[FR Doc. 01-9650 Filed 4-18-01; 8:45 am]

BILLING CODE 3510-22-S